DEPARTMENT OF THE INTERIOR

National Park Service

Notice of Inventory Completion: David Phelps Archaelogy Laboratory of East Carolina University, University of Greenville, NC

Correction

In notice document 06-1628 beginning on page 9372 in the issue of Thursday, February 23, 2006, make the following correction:

On page 9372, in the first column, after the second full paragraph beginning with the words “In 1971”, insert the following two paragraphs:

“Based on archeological evidence, the human remains have been determined to be Native American. Based on geographic placement, there are reasonable grounds to believe that the human remains are culturally affiliated with the Tuscarora Nation of New York.

In 1971, human remains representing a minimum of one individual were removed from site 31BR13, Bertie County, NC, during a cultural resource management survey conducted by East Carolina University professional staff. The human remains were fragmented. No known indvidual was identified. No associated funerary objects are present.”.

[FR Doc. C6-1628 Filed 3-8-06; 8:45 am]

BILLING CODE 1505-01-D